DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

If you wish to comment, you may submit comments by any one of several methods. You may mail comments to the Service's Regional Office (see ADDRESSES). You may also comment via the internet to “victoria_davis@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written data or comments on these applications must be received, at the address given below, by November 15, 2000.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: Applicant: Dan L. Wilkinson, Geo-Marine, INC., Plano, Texas, TE032771-0.

The applicant requests authorization to harass (survey) Hawksbill sea turtle, Eretmochelys imbricata, Kemp's (Atlantic) Ridley Sea Turtle, Lepidochelys kempii, Leatherback Sea Turtle, Dermochelys coriacea, Virgin Islands boa, Epicrates monensis granti, Culebra Island giant anole, Anolis roosevelti, Roseate tern Sterna dogallii, and brown pelican, Pelicanus occidentalis occidentalis throughout the species range on U.S. Navy land at U.S. Naval Station Roosevelt Roads and on the Island of Vieques, Puerto Rico, for the purpose of the enhancement of the Survival of the species.

Dated: October 5, 2000.
H. Dale Hall,
Acting Regional Director.

[FR Doc. 00-26438 Filed 10-13-00; 8:45 am]

BILLING CODE 4310-55-P